DEPARTMENT OF COMMERCE

International Trade Administration

[A-570-870]

Notice of Postponement of Final Determination of Antidumping Duty Investigation: Certain Circular Welded Carbon-Quality Steel Pipe From the People's Republic of China

AGENCY: Import Administration, International Trade Administration, Department of Commerce.

ACTION: Notice of postponement of final determination of antidumping duty investigation.

EFFECTIVE DATE: January 16, 2002.

FOR FURTHER INFORMATION CONTACT: Alex Villanueva or Bob Bolling, Office IX, DAS Group III, Import Administration, International Trade Administration, U.S. Department of Commerce, 14th Street and Constitution Avenue NW., Washington, DC 20230; telephone (202) 482-6412 and (202) 482-3434, respectively.

The Applicable Statute and Regulations

Unless otherwise indicated, all citations to the statute are references to the provisions effective January 1, 1995, the effective date of the amendments made to the Tariff Act of 1930 (the Act) by the Uruguay Round Agreements Act (URAA). In addition, unless otherwise indicated, all citations to Department of Commerce (the Department) regulations refer to the regulations codified at 19 CFR part 351 (2001).

Background

This investigation was initiated on June 13, 2001. See Notice of Initiation of Antidumping Duty Investigation: Certain Circular Welded Carbon-Quality Steel Pipe from the People's Republic of China, 66 FR 33227 (June 21, 2001). The period of investigation (POI) is October 1, 2000 through March 31, 2001. On December 31, 2001, the Department published the notice of preliminary determination. See Notice of Preliminary Determination of Sales at Less Than Fair Value: Certain Circular Welded Carbon-Quality Steel Pipe from the People's Republic of China, 66 FR 67500 (December 31, 2001).

Postponement of Final Determination and Extension of Provisional Measures

Section 735(a)(2) of the Act provides that a final determination may be postponed until not later than 135 days after the date of the publication of the preliminary determination if, in the event of an affirmative preliminary determination, a request for such postponement is made by exporters who account for a significant proportion of exports of the subject merchandise, or in the event of a negative preliminary determination, a request for such postponement is made by petitioner. The Department's regulations, at 19 CFR 351.210(e)(2), require that requests by respondents for postponement of a final determination be accompanied by a request for extension of provisional measures from a four-month period to not more than six months.

On December 17, 2001 Tianjin Shuang Jie Steel Pipe Co., Ltd (Shuang Jie) requested that the Department postpone its final determination until no later than 135 days after the date of the publication of the preliminary determination in the Federal Register and requested an extension of the provisional measures pursuant to 19 CFR 351.210(e)(2). In accordance with section 735(a)(2) of the Act and 19 CFR 351.210(b), because (1) our preliminary determination was affirmative, (2) Shuang Jie accounts for a significant proportion of exports of the subject merchandise, and (3) no compelling reasons for denial exist, we are granting Shuang Jie's request and are postponing the final determination until no later than 135 days after the publication of preliminary determination in the Federal Register. We are also extending the provisional measures, from four months to six months, in accordance with 19 CFR 351.210(e)(2). Suspension of liquidation will be extended accordingly.

Therefore, the final results are now due on May 15, 2002. This notice is published in accordance with section 735(a)(2) of the Act.

Dated: January 9, 2002.
Faryar Shirzad,
Assistant Secretary for Import Administration.

[FR Doc. 02-1129 Filed 1-15-02; 8:45 am]

BILLING CODE 3510-DS-P